DEPARTMENT OF THE TREASURY

Submission for OMB Review; Comment Request

April 21, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 27, 2009 to be assured of consideration.

Financial Management Service (FMS)

OMB Number: 1510-0042.

Type of Review: Extension.

Form: 1055.

Title: Claims against the U.S. for Amounts Due in Case of a Deceased Creditor.

Description: This form is required to determine who is entitled to funds of a deceased Postal Savings depositor or deceased award holder. The form properly completed with supporting documents enables this office to decide who is legally entitled to payment.

Respondents: Individuals or Households.

Estimated Total Burden Hours: 180 hours.

OMB Number: 1510-0048.

Type of Review: Extension.

Title: Minority Bank Deposit Program (MBDP) Certification Form for Admission

Description: A financial institution who wants to participate in the MBDP must complete this form. The approved application certifies the institution as minority and is admitted into the program.

Respondents: Businesses or other for-profit institutions.

Estimated Total Burden Hours: 75 hours.

Clearance Officer: Wesley Powe (202) 874-7662, Financial Management Service, Room 135, 3700 East-West Highway, Hyattsville, MD 20782.

OMB Reviewer: Shagufta Ahmed (202) 395-7873, Office of Management and Budget, Room 10235, New Executive Office Building, Washington, DC 20503.

Celina Elphage,
Treasury PRA Clearance Officer.

[FR Doc. E9-9480 Filed 4-24-09; 8:45 am]

BILLING CODE 4810-35-P